DEPARTMENT OF COMMERCE

International Trade Administration

[C-570-054]

Certain Aluminum Foil From the People's Republic of China: Final Results of Countervailing Duty Administrative Review; 2019; Correction

AGENCY: Enforcement and Compliance, International Trade Administration, Department of Commerce.

ACTION: Notice; correction.

SUMMARY: The Department of Commerce (Commerce) published the Federal Register notice of the final results of the administrative review of the countervailing duty (CVD) order on certain aluminum foil (aluminum foil) from the People's Republic of China (China) covering the period January 1, 2019, through December 31, 2019, on December 27, 2021. This notice misidentified a cross-owned company and misspelled the names of other companies.

FOR FURTHER INFORMATION CONTACT: Tyler Weinhold, AD/CVD Operations, Office VI, Enforcement and Compliance, International Trade Administration, U.S. Department of Commerce, 1401 Constitution Avenue NW, Washington, DC 20230; telephone: (202) 482-1121.

SUPPLEMENTARY INFORMATION:

Correction

In the Federal Register of December 27, 2021, in FR Doc 2021-28043, on page 73250, in the net countervailable subsidy rate table, make the following corrections:

• In the third row of the “Company” column, revise the seventh-listed company name, “Jiangsu Dingsheng New Materials Joint Stock Co., Ltd.” to “Jiangsu Dingsheng New Materials Joint-Stock Co., Ltd.” to include a hyphen between “Joint” and “Stock.”

• In the third row of the “Company” column, revise the eighth-listed company name, “Luoyang Longding Aluminium Industries Co., Ltd.” to “Luoyang Longding Aluminum Co., Ltd.” to change “Aluminium” to “Aluminum” and to exclude “Industries.”

• In the eighth row of the “Company” column, revise “Xiamen Xiashun Aluminium Foil Co. Ltd.” to “Xiamen Xiashun Aluminum Foil Co., Ltd.” to change “Aluminium” to “Aluminum.”

• In the “Company” and “Net countervailable subsidy rate (percent ad valorem)” columns, include the following company and associated rate: Luoyang Longding Aluminium Industries Co., Ltd.; 14.20.

Background

On December 27, 2021, Commerce published in the Federal Register the final results of the administrative review of the CVD order on aluminum foil from China covering the period January 1, 2019, through December 31, 2019.¹

¹ See Certain Aluminum Foil from the People's Republic of China: Final Results of Countervailing Duty Administrative Review; 2019, 86 FR 73249 (December 27, 2021); see also Certain Aluminum Foil from the People's Republic of China: Amended Final Affirmative Countervailing Duty Determination and Countervailing Duty Order, 83 FR 17360 (April 19, 2018) (Order).

In the net countervailable subsidy rate table, Commerce inadvertently listed Luoyang Longding Aluminium Industries Co., Ltd., instead of Luoyang Longding Aluminum Co., Ltd., as one of the cross-owned companies in the third row of the “Company” column. Luoyang Longding Aluminium Industries Co., Ltd. should have been listed as a separate company and, instead, Luoyang Longding Aluminum Co., Ltd. should have been included as a cross-owned company in the third row of the “Company” column in the net countervailable subsidy rate table.

In addition, “Jiangsu Dingsheng New Materials Joint-Stock Co., Ltd.” was misspelled as “Jiangsu Dingsheng New Materials Joint Stock Co., Ltd.” (omitting the hyphen between “Joint” and “Stock”) and “Xiamen Xiashun Aluminum Foil Co., Ltd.” was misspelled as “Xiamen Xiashun Aluminium Foil Co. Ltd.” (misspelling “Aluminum” as “Aluminium”).

The corrected net countervailable subsidy table is as follows:

Company | Net countervailable subsidy rate (percent ad valorem)
Alcha International Holdings Limited | 14.20
Anhui Maximum Aluminum Industries Company Ltd.; Jiangsu Huafeng Aluminum Industry Co., Ltd.; Jiangsu Zhongji Lamination Materials Co., Ltd.; Jiangsu Zhongji Lamination Materials Co., (HK) Limited; and Shantou Wanshun Package Material Stock Co., Ltd ² | 14.20
Dingsheng Aluminum Industries (Hong Kong) Trading Co., Ltd.; Hangzhou DingCheng Aluminum Co., Ltd.; Hangzhou Dingsheng Import & Export Co. Ltd.; Hangzhou Dingsheng Industrial Group Co. Ltd.; Hangzhou Five Star Aluminum Co., Ltd.; Hangzhou Teemful Aluminum Co., Ltd.; Jiangsu Dingsheng New Materials Joint-Stock Co., Ltd.; Luoyang Longding Aluminum Co., Ltd.; and Walson (HK) Trading Co., Limited ³ | 14.20
Hunan Suntown Marketing Limited | 14.20
Jiangsu Alcha Aluminum Co., Ltd | 305.07
SNTO International Trade Limited | 14.20
Suntown Technology Group Corporation Limited | 14.20
Xiamen Xiashun Aluminum Foil Co., Ltd | 14.20
Yinbang Clad Material Co., Ltd | 14.20
Luoyang Longding Aluminium Industries Co., Ltd | 14.20

Notification to Interested Parties

² In the first administrative review of the Order, Commerce found the following companies to be cross-owned: Anhui Maximum Aluminum Industries Company Ltd.; Jiangsu Huafeng Aluminum Industry Co. Ltd.; Jiangsu Zhongji Lamination Materials Co., Ltd.; Jiangsu Zhongji Lamination Materials Co., (HK) Ltd.; Shantou Wanshun Material Stock Co., Ltd.; and Anhui Maximum Aluminum Industries Company Limited. The subsidy rate applies to all cross-owned companies. See Certain Aluminum Foil from the People's Republic of China: Final Results of the Countervailing Duty Administrative Review; 2017-2018, 86 FR 12171 (March 2, 2021).

³ In the investigation, Commerce found the following companies to be cross-owned: Dingsheng Aluminum Industries (Hong Kong) Trading Co., Ltd.; Hangzhou DingCheng Aluminum Co., Ltd.; Hangzhou Dingsheng Import & Export Co. Ltd.; Hangzhou Dingsheng Industrial Group Co. Ltd.; Hangzhou Five Star Aluminum Co., Ltd.; Hangzhou Teemful Aluminum Co., Ltd.; Jiangsu Dingsheng New Materials Joint-Stock Co., Ltd.; Luoyang Longding Aluminum Co., Ltd.; and Walson (HK) Trading Co., Limited. The subsidy rate applies to all cross-owned companies. See Order.

This notice is issued and published in accordance with sections 751(a)(1) and 777(i)(1) of the Tariff Act of 1930, as amended, and 19 CFR 351.221(b)(5).

Dated: January 5, 2022.
Ryan Majerus,
Deputy Assistant Secretary for Policy and Negotiations, Performing the Non-Exclusive Functions and Duties of the Assistant Secretary Enforcement and Compliance.

[FR Doc. 2022-00282 Filed 1-10-22; 8:45 am]

BILLING CODE 3510-DS-P